DEPARTMENT OF AGRICULTURE

Animal and Plant Health Inspection Service

[Docket No. APHIS-2011-0057]

Privacy Act Systems of Records; Animal Disease Traceability Information System

AGENCY: Animal and Plant Health Inspection Service, USDA.

ACTION: Notice of a proposed new system of records.

SUMMARY: The Animal and Plant Health Inspection Service proposes to add a system of records to its inventory of records systems subject to the Privacy Act of 1974, as amended. The system of records is the Animal Disease Traceability Information System, USDA-APHIS-16. This notice is necessary to meet the requirements of the Privacy Act to publish in the Federal Register notice of the existence and character of record systems maintained by the agency.

DATES: Effective Date: This system will be adopted without further notice on October 26, 2015 unless modified to respond to comments received from the public and published in a subsequent notice.

Comment Date: Comments must be received, in writing, on or before October 16, 2015.

ADDRESSES: You may submit comments by either of the following methods:

• Federal eRulemaking Portal: Go to http://www.regulations.gov/#!docketDetail;D=APHIS-2011-0057.

• Postal Mail/Commercial Delivery: Send your comment to Docket No. APHIS-2011-0057, Regulatory Analysis and Development, PPD, APHIS, Station 3A-03.8, 4700 River Road Unit 118, Riverdale, MD 20737-1238.

Supporting documents and any comments we receive on this docket may be viewed at http://www.regulations.gov/#!docketDetail;D=APHIS-2011-0057 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Neil Hammerschmidt, Program Manager, Animal Disease Traceability, VS, APHIS, 4700 River Road Unit 46, Riverdale, MD 20737-1231; (240) 463-0098.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled Animal Disease Traceability Information System (ADTIS), to maintain records of activities conducted pursuant to APHIS' mission and responsibilities authorized by the Animal Health Protection Act (7 U.S.C. 8301 et seq.).

APHIS, in cooperation with States, Tribes, and producers, safeguards U.S. animal health through a variety of activities, including disease control. One important part of disease control is locating animals that may be infected with or exposed to disease. Animal traceability efforts typically rely on identification of animals and identification of locations where animals are managed. While APHIS has some animal traceability requirements for livestock moved interstate, States and Tribes may have their own methods or systems for tracing animals moved into, within, or from their respective jurisdictions.

The ADTIS is an information management system that APHIS utilizes to maintain records of official identification devices and other information associated with official identification numbers of animals. The system contains several modules or components that maintain information to support APHIS' ability to respond to animal health events. One component pertains to the location where livestock are raised or maintained. This component, the Standardized Premises Identification System (SPIS), is made available by APHIS at no cost to States and Tribes that wish to use it to manage information about livestock and locations where livestock are kept as part of their own animal disease traceability programs. The SPIS maintains the address of each location that was issued a premises identification number (PIN) to help avoid the issuance of multiple PINs to the same location. Other modules of the ADTIS maintain records of approved manufacturers of official identification devices and their distribution to premises.

APHIS will maintain the information system. Premises data in the SPIS will be segregated by State or Tribe and managed by each State or Tribe that elects to use the system. States and Tribes will collect the information from the individuals, or the individuals, if authorized users of the system, could enter the information directly.

Data may include personally identifiable information on individuals associated with a particular location where animals are managed (e.g., raised, marketed, assembled, exhibited, treated, or processed) and on individuals who use or provide data for the system but do not manage or hold livestock (non-producer participants), such as APHIS and State animal health officials, tag manufacturers, service providers, and veterinarians. This information may include the individual's name, address or comparable location information, telephone number(s), email address, and premises or non-producer participant identification number. Individuals who have access to the SPIS will be able to see only their own information and not that of other users. States and Tribes will only have access to premises information associated with their own States or Tribes. Routine uses of records are maintained in the system, including categories of users and the purposes of such uses.

APHIS may routinely share records with Federal, State, and Tribal animal health officials to contain and respond to a foreign animal disease event, bioterrorism, or other animal health event. APHIS may also share records with Federal and State animal health officials within the system to obtain feedback regarding the ADTIS and emergency preparedness guidelines, to educate and involve them in program development, program requirements, and standards of conduct, and to validate information. Other routine uses of records include releases to appropriate agencies for investigations pertaining to violations of law or related to litigation. A complete listing of the routine uses of records maintained in this system is included in the document published with this notice.

Report on a New System of Records

A report on the new system of records, required by 5 U.S.C. 552a(r), as implemented by Office of Management and Budget Circular A-130, was sent to the Chairman, Committee on Homeland Security and Governmental Affairs, United States Senate; the Chairman, Committee on Oversight and Government Reform, House of Representatives; and the Administrator, Office of Information and Regulatory Affairs, Office of Management and Budget.

Done in Washington, DC, this 31st day of August 2015.
Kevin Shea,
Administrator, Animal and Plant Health Inspection Service.

System name:

Animal Disease Traceability Information System (ADTIS), USDA-APHIS-16.

Security classification:

None.

System location:

All components of the ADTIS are hosted and operated at two U.S. Department of Agriculture (USDA) Enterprise Data Centers, the National Information Technology Centers in Kansas City, MO, and Beltsville, MD.

Categories of individuals covered by the system:

Individuals who are the contact persons for locations where animals are managed (i.e., raised, marketed, assembled, exhibited, treated, processed, etc.) and other individuals who use or provide data for the system but do not manage or hold livestock (non-producer participants), such as APHIS and State animal health officials, tag manufacturers, service providers, and veterinarians.

Categories of records in the system:

Records may include some or all of the following information: Name; street address of premises or business, including city, State, and postal code; latitude/longitude coordinates or global positioning system coordinates of the premises; telephone number(s); email address; type of operation (e.g., production, market, exhibition, or slaughter plant); premises identification numbers; non-producer participant numbers; and business internet address.

Authority for maintenance of the system:

The authority for maintenance of this system is the Animal Health Protection Act (7 U.S.C. 8301 et seq.).

Purpose(s):

The ADTIS is an information management system that the Animal and Plant Health Inspection Service (APHIS) utilizes to maintain records of official identification devices and other events associated with official identification numbers of animals. The premises identification component is made available at no cost to States and Tribes that wish to use it to manage information about locations where livestock are managed as part of their own animal disease traceability programs. States and Tribes will collect the information from the individuals, or the individuals, if authorized users of the system, may enter the information directly. States and Tribes will only have access to premises information associated with their States or Tribes.

Routine uses of records maintained in the system, including categories of users and the purposes of such uses:

In addition to those disclosures generally permitted under 5 U.S.C. 552a(b) of the Privacy Act, records maintained in the system may be disclosed outside USDA as follows:

(1) As authorized by 7 U.S.C. 8791 and any amendments thereto, to Federal, State, local, and Tribal government animal health officials and to veterinarians accredited by APHIS to perform work for the agency;

(2) To the extent that disclosure will not violate 7 U.S.C. 8791 and any amendments thereto, to appropriate agencies, entities, and persons when the agency suspects or has confirmed that the security or confidentiality of information in the system of records has been compromised; the agency has determined that as a result of the suspected or confirmed compromise, there is a risk of harm to economic or property interests, a risk of identity theft or fraud, or a risk of harm to the security of integrity of this system or other systems or programs (whether maintained by the agency or another agency or entity) that rely upon the compromised information; and the disclosure made to such agencies, entities, and persons is reasonably necessary to assist in connection with the agency's efforts to respond to the suspect, or confirmed, compromise and prevent, minimize, or remedy such harm;

(3) To the appropriate agency, whether Federal, State, local, Tribal, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(4) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(5) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(6) To USDA contractors, partner agency employees or contractors, or private industry employed to identify patterns, trends, or anomalies indicative of fraud, waste, or abuse. Such contractors and other parties are bound by the nondisclosure provisions of the Privacy Act; and

(7) To the National Archives and Records Administration or to the General Services Administration for records management inspections conducted under 44 U.S.C. 2904 and 2906.

Disclosure to consumer reporting agencies:

None.

Policies and practices for storing, retrieving, accessing, retaining, and disposing of records in the system:

Storage:

The electronic master data for the ADTIS are stored on USDA servers in secure facilities at two separate locations. This redundancy ensures around-the-clock operations. All servers for the ADTIS are backed up nightly. Backup media is taken weekly to an offsite storage facility and stored on tape.

Retrievability:

Data can be retrieved by identification number assigned to premises, premises address, and name of contact person for the premises if provided by the State or Tribe, name of non-producer participant, non-producer participant number, and official animal identification numbers.

Safeguards:

The electronic master data for the ADTIS is stored on USDA servers in secure facilities. The computer room has safeguards that limit physical access. Access to data is limited to users who have Level 2 eAuthentication credentials and/or database authentication. User roles further limit access to data, and the application contains security measures to prevent access to unauthorized information. USDA monitors eAuthentication access to ensure authorized and appropriate use of data.

Retention and disposal:

APHIS will maintain records in the system indefinitely while the records schedule is awaiting approval. The qualifier is supported under 36 CFR 120.18.

System manager(s) and address:

Program Manager, Animal Disease Traceability, VS, APHIS, 4700 River Road Unit 46, Riverdale, MD 20737-1231; (301) 851-3539.

Notification procedure:

Any individual may request general information regarding this system of records or information as to whether the system contains records pertaining to him/her from the system manager at the address above. All inquiries pertaining to this system should be in writing, must name the system of records as set forth in the system notice, and must contain the individual's name, telephone number, address, and email address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

Information in the ADTIS comes from members of the public, either individuals or businesses, involved in or supporting the production, management, or holding of livestock or poultry.

Exemptions claimed for the system:

None.

[FR Doc. 2015-23255 Filed 9-15-15; 8:45 am]

BILLING CODE 3410-34-P